FEDERAL COMMUNICATIONS COMMISSION

Public Information Collections Approved by Office of Management and Budget

June 4, 2007.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Dana Jackson, Federal Communications Commission, 445 12th Street, SW., Washington, DC 20554, (202) 418-2247 or via the Internet at Dana.Jackson@fcc.gov.

SUPPLEMENTARY INFORMATION: OMB Control No.: 3060-1053.

OMB Approval Date: 05/21/2007.

Expiration Date: 05/31/2010.

Title: 47 CFR 64.604—In the Matter of Telecommunications Relay Services and Speech-to-Speech Services for Individuals with Hearing and Speech Disabilities, IP Captioned Telephone Service, Declaratory Ruling, CG Docket No. 03-123.

Form No.: None.

Estimated Annual Burden: 12 responses; 8 hours per response; 96 total annually hourly burden.

Needs and Uses: On August 1, 2003, the Commission released the Declaratory Ruling, In the Matter of Telecommunication Relay Services and Speech-to-Speech Services for Individuals with Hearing and Speech Disabilities, CC 98-67, FCC 03-190. In the Declaratory Ruling, the Commission clarified that one-line captioned telephone voice carry over (VCO) service is a type of telecommunications relay service (TRS) and that eligible providers of such services are eligible to recover their costs in accordance with section 225 of the Communications Act. The Commission also clarified that certain TRS mandatory minimum standards does not apply to one-line captioned VCO service, and waived 47 CFR 64.604(a)(1) and (a)(3) of the Commission's rules for all current and future captioned telephone VCO service providers, for the same period of time beginning August 1, 2003. The waivers were contingent on the filing of annual reports, for a period of three years, with the Commission. Sections 64.604(a)(1) and (a)(3) of the Commission's rules, which contained information collection requirements under the PRA became effective on March 26, 2004.

On July 19, 2005, the Commission released an Order, In the Matter of Telecommunication Relay Services and Speech-to-Speech Services for Individuals with Hearing and Speech Disabilities, CC 98-67 and CG Docket No. 03-123, FCC 05-141, that clarified two-line captioned telephone VCO service, like one-line captioned telephone VCO service, is a form of TRS eligible for compensation from the Interstate TRS Fund. Also, the Commission clarified that certain TRS mandatory minimum standards do not apply to two-line captioned VCO service, and waived 47 CFR 64.604(a)(1) and (a)(3) of the Commission's rules, for providers that offer two-line captioned VCO service. This clarification increased the number of providers that will be providing one-line and two-line captioned VCO services.

On January 11, 2007, the Commission released a Declaratory Ruling, In the Matter of Telecommunications Relay Services and Speech-to-Speech Services for Individuals with Hearing and Speech Disabilities, CG Docket No. 03-123, FCC 06-182, granting a request for clarification that Internet Protocol (IP) captioned telephone relay service (IP CTS) is a form of TRS eligible for compensation from the Interstate TRS Fund when offered in compliance with the applicable TRS mandatory minimum standards.

Federal Communications Commission.
Marlene H. Dortch,
Secretary.

[FR Doc. E7-11233 Filed 6-12-07; 8:45 am]

BILLING CODE 6712-01-P